Title 3—

The President

Memorandum of September 8, 2017

Delegation of Authority Under the Global Magnitsky Human Rights Accountability Act

Memorandum for the Secretary of State [and] the Secretary of the Treasury

By the authority vested in me as President by the Constitution and the laws of the United States of America, including section 301 of title 3, United States Code, I hereby make the following delegations:

I delegate to the Secretary of the Treasury the authority to administer financial sanctions under section 1263 of the Global Magnitsky Human Rights Accountability Act (Public Law 114-328) (the “Act”). In exercising the authority delegated by this memorandum, the Secretary of the Treasury will coordinate with the Secretary of State.

I also delegate to the Secretary of State the authority to administer visa sanctions under section 1263 of the Act.

The delegations in this memorandum shall apply to any provision of any future public law that is the same or substantially the same as section 1263 of the Act.

The Secretary of State is authorized and directed to publish this memorandum in the Federal Register.

THE WHITE HOUSE,

Washington, September 8, 2017

[FR Doc. 2017-21026

Filed 9-27-17; 11:15 am]

Billing code 4710-10-P